DEPARTMENT OF HEALTH AND HUMAN SERVICES

National Institutes of Health

National Institute on Aging; Amended Notice of Meeting

Notice is hereby given of a change in the meeting of the Board of Scientific Counselors, NIA, May 19, 2020, 8:00 a.m. to May 21, 2020, 6:30 p.m., National Institute on Aging, Biomedical Research Center, 251 Bayview Boulevard, Baltimore, MD, 21224 which was published in the Federal Register on March 23, 2020, 85 FR 16376.

The meeting notice is amended to change the date of the meeting from May 19-21, 2020 to September 21-22, 2020. The meeting is partially Closed to the public.

Dated: May 19, 2020.
Miguelina Perez,
Program Analyst, Office of Federal Advisory Committee Policy.

[FR Doc. 2020-11149 Filed 5-22-20; 8:45 am]

BILLING CODE 4140-01-P